DEPARTMENT OF THE INTERIOR

Fish and Wildlife Service

Notice of Availability of the Hungerford's Crawling Water Beetle (Brychius hungerfordi) Draft Recovery Plan for Review and Comment

AGENCY: Fish and Wildlife Service, Interior.

ACTION: Notice of document availability.

SUMMARY: The U.S. Fish and Wildlife Service (Service) announces availability for public review of the draft recovery plan for the Hungerford's crawling water beetle (Brychius hungerfordi), a species that is federally listed as endangered under the Endangered Species Act of 1973 (Act), as amended (16 U.S.C. 1531 et seq.). The purpose of this plan is to recover this species so that it can be removed from the list of Threatened and Endangered Species. The species is only known to occur at four sites in Michigan and one site in Ontario, Canada. The Service solicits review and comment from the public on this draft plan.

DATES: Comments on the draft recovery plan must be received on or before September 7, 2004.

ADDRESSES: Persons wishing to review the draft recovery plan may obtain a copy by contacting the Field Supervisor, U.S. Fish and Wildlife Service, Ecological Services Field Office, 2651 Coolidge Road, Suite 101, East Lansing, Michigan 48823-6316 (telephone (517) 351-2555) or by accessing the Web site: http://midwest.fws.gov/Endangered.

FOR FURTHER INFORMATION CONTACT: Ms. Carrie Tansy at the above address and telephone (ext. 289). TTY users may contact Ms. Tansy through the Federal Relay Service at (800) 877-8339.

SUPPLEMENTARY INFORMATION:

Background

Restoring an endangered or threatened animal or plant to the point where it is again a secure self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures.

The Act requires the development of recovery plans for listed species unless such a plan would not promote the conservation of a particular species. Section 4(f) of the Act, as amended in 1988, requires that public notice and opportunity for public review and comment be provided during recovery plan development. The Service will consider all information presented during a public comment period prior to approval of each new or revised recovery plan. The Service and other Federal agencies will also take these comments into consideration in the course of implementing approved recovery plans.

Hungerford's crawling water beetle was listed as endangered on March 7, 1994. At the time of its listing, this species was known to occur at only three locations—two in Michigan and one in Ontario, Canada. Since then, two additional sites in Michigan have been discovered. The distribution of this species prior to its discovery in 1952 is not known. Currently, only one site is believed to support a stable population of the species. The species occurs in low numbers at the other four sites, and the status of these populations is not known. Hungerford's crawling water beetle is an aquatic species that is found in streams downstream from culverts, beaver and natural debris dams, and human-made impoundments. It is found in areas of streams with good aeration, moderate to fast flow, inorganic substrate, and alkaline water conditions. Very little information is available on the life history and habitat requirements of this species. Threats appear to be related to habitat alteration and degradation of water quality, and may include habitat modification, fish management activities, and human disturbance. Factors limiting the species distribution are not known. The small size and limited distribution of Hungerford's crawling water beetle make it vulnerable to chance demographic and environmental events. The draft recovery plan recommends research to examine important components of the species' biology and ecology that will contribute greatly to the recovery program.

Hungerford's crawling water beetle will be considered for downlisting to threatened status when the likelihood of the species becoming extinct in the foreseeable future has been eliminated by the achievement of the following interim criteria: (1) Life history, ecology, population biology, and habitat requirements are understood well enough to fully identify threats; and (2) a minimum of four U.S. populations, in at least two different watersheds, have had stable or increasing populations for at least 10 years.

Hungerford's crawling water beetle will be considered for delisting when the likelihood of the species becoming threatened in the foreseeable future has been eliminated by the achievement of the following interim criteria: (1) Identify and protect habitat necessary for long-term survival and recovery; and (2) a minimum of four U.S. populations, in at least two different watersheds, are sufficiently secure and adequately managed to assure long-term viability. The recovery criteria are interim because further research is needed to make them fully measurable. As new information about the species becomes available, and if new populations of the species are discovered, the recovery criteria will be revised. Additional detail on downlisting and delisting criteria is available in the draft recovery plan.

These criteria will be met through the following actions: (1) Protect known sites; (2) conduct scientific research to facilitate recovery; (3) conduct additional surveys and monitor existing sites; (4) develop and implement public education and outreach; (5) revise recovery criteria and recovery tasks, as appropriate, based on research and new information; and (6) develop a plan to monitor B. hungerfordi after it is delisted.

Public Comments Solicited

The Service solicits written comments on the draft recovery plan. All comments received by the date specified will be considered prior to approval of the plan. Written comments and materials regarding the plan should be sent to the Field Supervisor, Ecological Services Field Office (see ADDRESSES section). Comments received will be available for public inspection by appointment during normal business hours.

Authority: The authority for this action is section 4(f) of the Endangered Species Act, 16 U.S.C. 1533(f).

Dated: July 23, 2004.
Mr. Robert Krska,
Acting Assistant Regional Director, Ecological Services, Region 3.

[FR Doc. 04-17975 Filed 8-5-04; 8:45 am]

BILLING CODE 4310-55-P